DEPARTMENT OF THE INTERIOR

Bureau of Land Management

[OR-027-1610-PG; G-03-0171]

Notice To Cancel a Public Meeting, Steens Mountain Advisory Council

AGENCY: Bureau of Land Management (BLM), Interior.

ACTION: Cancellation notice of public meeting for the Steens Mountain Advisory Council.

SUMMARY: The August 11 and 12, 2003, Steens Mountain Advisory Council Meeting, previously scheduled to be held at the Bureau of Land Management (BLM), Burns District Office, 28910 Highway 20 West, Hines, Oregon 97738, has been cancelled. The original Federal Register notice announcing the meeting was published Tuesday, November 5, 2002, page number 67413.

FOR FURTHER INFORMATION CONTACT: Additional information concerning the SMAC may be obtained from Rhonda Karges, Management Support Specialist, Burns District Office, 28910 Highway 20 West, Oregon, 97738, (541) 573-4400 or Rhonda_Karges@or.blm.gov or from the following Web site: http://www.or.blm.gov/Steens.

Dated: June 24, 2003.
Thomas H. Dyer,
Burns District Manager.

[FR Doc. 03-16408 Filed 6-27-03; 8:45 am]

BILLING CODE 4310-33-M